SMALL BUSINESS ADMINISTRATION

[Declaration of Disaster #3437]

State of California; Disaster Loan Areas

Kern County and the contiguous counties of Inyo, Kings, Los Angeles, San Bernardino, San Luis Obispo, Santa Barbara, Tulare and Ventura in the State of California constitute a disaster area as a result of a wildfire that occurred on July 21, 2002 in the Deer Point area of Bodfish and Lake Isabella, California. Applications for loans for physical damage as a result of this disaster may be filed until the close of business on October 4, 2002, and for economic injury until the close of business on May 5, 2003, at the address listed below or other locally announced locations: U.S. Small Business Administration, Disaster Area 4 Office, P. O. Box 13795, Sacramento, CA 95853-4795.

The interest rates are:

| Percent
For Physical Damage
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury
Businesses and small agricultural cooperatives without credit available elsewhere | 3.500

The number assigned to this disaster for physical damage is 343705 and for economic damage is 9Q9200.

(Catalog of Federal Domestic Assistance Program Nos. 59002 and 59008.)
Dated: August 5, 2002.
Hector V. Barreto,
Administrator.

[FR Doc. 02-20361 Filed 8-9-02; 8:45 am]

BILLING CODE 8025-01-P